DEPARTMENT OF COMMERCE

International Trade Administration

[C-122-874]

Fresh Mushrooms From Canada: Postponement of Preliminary Determination in the Countervailing Duty Investigation

AGENCY: Enforcement and Compliance, International Trade Administration, Department of Commerce.

DATES: Applicable February 18, 2026.

FOR FURTHER INFORMATION CONTACT: Gene H. Calvert, Office II, AD/CVD Operations, Enforcement and Compliance, International Trade Administration, U.S. Department of Commerce, 1401 Constitution Avenue NW, Washington, DC 20230; telephone: (202) 482-3586.

SUPPLEMENTARY INFORMATION:

Background

On January 2, 2026, the U.S. Department of Commerce (Commerce) initiated a countervailing duty (CVD) investigation of imports of fresh mushrooms from Canada.¹ Currently, the preliminary determination is due no later than March 9, 2026.²

¹ See Fresh Mushrooms from Canada: Initiation of Countervailing Duty Investigation, 91 FR 668 (January 8, 2026).

² Because the actual deadline for the preliminary determination falls on a weekend (i.e., Sunday, March 8, 2026), the deadline becomes the next business day (i.e., Monday, March 9, 2026). See Notice of Clarification: Application of “Next Business Day” Rule for Administrative Determination Deadlines Pursuant to the Tariff Act of 1930, As Amended, 70 FR 24533 (May 10, 2005).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds completing reasons to deny the request.

On February 10, 2026, the Fresh Mushrooms Fair Trade Coalition and its individual members (i.e., the petitioners) timely requested that Commerce postpone the preliminary CVD determination.³ The petitioners stated a postponement is warranted to provide Commerce with additional time to review and to analyze the questionnaire responses submitted by the Government of Canada and by the respondents, and to issue supplemental questionnaires.⁴

³ See Petitioners' Letter, “Petitioners' Request for Postponement of Preliminary Determination,” dated February 10, 2026.

⁴ Id.

In accordance with 19 CFR 351.205(e), the petitioners have timely stated the reasons for requesting a postponement of the preliminary determination, and Commerce finds no compelling reason to deny this request. Therefore, in accordance with section 703(c)(1)(A) of the Act, Commerce is postponing the deadline for the preliminary determination to no later than 130 days after the date on which this investigation was initiated, i.e., May 12, 2026.

Pursuant to section 705(a)(1) of the Act and 19 CFR 351.210(b)(1), the deadline for the final determination of this CVD investigation will continue to be 75 days after the date of the preliminary determination.

Notification to Interested Parties

This notice is issued and published pursuant to section 703(c)(2) of the Act and 19 CFR 351.205(f)(1).

Dated: February 12, 2026.
Christopher Abbott,
Deputy Assistant Secretary for Policy and Negotiations performing the non-exclusive functions and duties of the Assistant Secretary for Enforcement and Compliance.

[FR Doc. 2026-03194 Filed 2-17-26; 8:45 am]

BILLING CODE 3510-DS-P